DEPARTMENT OF AGRICULTURE

Forest Service

National Urban and Community Forestry Advisory Council

AGENCY: Forest Service, USDA.

ACTION: Notice of meeting.

SUMMARY: The National Urban and Community Forestry Advisory Council will meet on June 6 and 7, 2012. The meeting will be held in Washington, DC at the U.S. Forest Service Yates Building. The purpose of this meeting is to have the working committees discuss the 2013 grant categories; preparation for the 10 year action plan revisions; work plan action items; communications; and accomplishment/recommendations report.

DATES: The meeting will be held on June 6 and 7, 2012, 9 a.m. to 5 p.m. or until Council business is completed.

ADDRESSES: The meeting will be at the U.S. Forest Service,Yates Building, 201 14th Street SW., Washington, DC, second floor training room.

Written comments concerning this meeting should be addressed to Nancy Stremple, Executive Staff to the National Urban and Community Forestry Advisory Council, 201 14th Street SW., Yates Building (1 Central) MS-1151, Washington, DC 20250-1151. Comments may also be sent via email to nstremple@fs.fed.us, or via facsimile to 202-690-5792.

All comments, including names and addresses when provided, are placed in the record and are available for public inspection and copying. Visitors are encouraged to call ahead to facilitate entry into the Forest Service building.

FOR FURTHER INFORMATION CONTACT: Nancy Stremple, Executive Staff to the National Urban and Community Forestry Advisory Council, 201 14th Street SW., Yates Building (1 Central) MS-1151, Washington, DC 20250-1151, desk phone 202-205-7829, or unit phone 202-205-1054.

Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. Those interested in attending should contact Nancy Stremple to be placed on the meeting attendance list. Council discussion is limited to Forest Service staff and Council members; however, persons who wish to bring urban and community forestry matters to the attention of the Council may file written statements with the Council staff (201 14th Street SW., Yates Building (1 Central) MS-1151, Washington, DC 20250-1151, email: nstremple@fs.fed.us) before or after the meeting. Public input sessions will be provided at the meeting.

Dated: May 2, 2012.
Robin L. Thompson,
Associate Deputy Chief, State & Private Forestry.

[FR Doc. 2012-11165 Filed 5-8-12; 8:45 am]

BILLING CODE 3410-11-P